DEPARTMENT OF COMMERCE

Foreign-Trade Zones Board

[B-6-2017]

Foreign-Trade Zone (FTZ) 20—Norfolk, Virginia, Authorization of Production Activity, STIHL Incorporated (Outdoor Power Products Manufacturing), Virginia Beach, Virginia

On December 23, 2016, STIHL Incorporated submitted a notification of proposed production activity to the FTZ Board for its facility within FTZ Subzone 20E, in Virginia Beach, Virginia.

The notification was processed in accordance with the regulations of the FTZ Board (15 CFR part 400), including notice in the Federal Register inviting public comment (82 FR 6490, January 19, 2017). On April 20, 2017, the applicant was notified of the FTZ Board's decision that further review of part of the proposed activity is warranted. The FTZ Board authorized the production activity described in the notification on a limited basis, subject to the FTZ Act and the Board's regulations, including Section 400.14, and further subject to a restriction requiring that foreign-status lithium ion batteries be admitted to the subzone in privileged foreign status (19 CFR 146.41).

Dated: June 8, 2017.
Andrew McGilvray,
Executive Secretary.

[FR Doc. 2017-12424 Filed 6-14-17; 8:45 am]

BILLING CODE 3510-DS-P